DEPARTMENT OF LABOR

Occupational Safety and Health Administration

[Docket No. OSHA-2007-0042]

TUV Rheinland of North America, Inc.: Grant of Expansion of Recognition

AGENCY: Occupational Safety and Health Administration (OSHA), Labor.

ACTION: Notice.

SUMMARY: In this notice, OSHA announces the final decision to expand the scope of recognition for TUV Rheinland of North America, Inc., as a Nationally Recognized Testing Laboratory (NRTL).

DATES: The expansion of the scope of recognition becomes effective on February 26, 2020.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov. OSHA's website includes information about the NRTL Program (see http://www.osha.gov/dts/otpca/nrtl/index.html).

SUPPLEMENTARY INFORMATION:

I. Notice of Final Decision

OSHA hereby gives notice of the expansion of the scope of recognition of TUV Rheinland of North America, Inc. (TUVRNA) as a NRTL. TUVRNA's expansion covers the addition of one recognized testing standard to the NRTL scope of recognition.

OSHA recognition of a NRTL signifies that the organization meets the requirements specified in 29 CFR 1910.7. Recognition is an acknowledgment that the organization can perform independent safety testing and certification of the specific products covered within the scope of recognition, and is not a delegation or grant of government authority. As a result of recognition, employers may use products properly approved by the NRTL to meet OSHA standards that require testing and certification.

The agency processes applications by a NRTL for initial recognition, or for expansion or renewal of this recognition, following requirements in Appendix A to 29 CFR 1910.7. This appendix requires that the agency publish two notices in the Federal Register in processing an application. In the first notice, OSHA announces the application and provides the preliminary finding and, in the second notice, the agency provides the final decision on the application. These notices set forth the NRTL's scope of recognition or modifications of that scope. OSHA maintains an informational web page for each NRTL that details the scope of recognition. These pages are available from the agency's website at http://www.osha.gov/dts/otpca/nrtl/index.html.

TUVRNA submitted two applications, one dated March 30, 2016 (OSHA-2007-0042-0030) and another dated April 19, 2017 (OSHA-2007-0042-0031), to expand the scope of recognition to include the addition of four recognized testing and certification sites and the addition of two test standards to its scope of recognition. OSHA preliminarily determined that OSHA should grant the applications for expansion.

OSHA published a Federal Register notice (83 FR 36625), July 30, 2018, announcing these applications, but referenced the incorrect title of one of the standards in the listing of appropriate test standards (UL 698A). OSHA further published a Federal Register notice (84 FR 26160), June 5, 2019, granting recognition for the four sites and the two additional standards requested in the application, but again referenced the incorrect title one of the standards in the listing of appropriate test standards (UL 698A). This notice is being issued to grant recognition to the correct title of the standard requested in TUVRNA's application for expansion of the NRTL scope of recognition (UL 698A).

OSHA published the preliminary notice announcing TUVRNA's expansion application, reflecting the correct title of the standard in the Federal Register on October 29, 2019 (84 FR 57886). The agency requested comments by November 13, 2019, and the agency did not receive any comments regarding the application. OSHA now is proceeding with this final notice to correct the title of the standard previously granted to TUVRNA's scope of recognition.

To obtain or review copies of all public documents pertaining to TUVRNA's application, go to www.regulations.gov or contact the Docket Office, Occupational Safety and Health Administration, U.S. Department of Labor, 200 Constitution Avenue NW, Room N-3655, Washington, DC 20210; telephone: (202) 693-2350. Docket No. OSHA-2007-0042 contains all materials in the record concerning TUVRNA's recognition.

II. Final Decision and Order

OSHA staff examined TUVRNA's expansion application and examined other pertinent information. Based on a review of this evidence, OSHA finds that TUVRNA meets the requirements of 29 CFR 1910.7 for expansion of recognition, subject to the limitation and conditions listed below. OSHA, therefore, is proceeding with this final notice to grant expansion of TUVRNA's scope of recognition. OSHA limits the expansion of TUVRNA's scope of recognition to testing and certification of products for demonstration of conformance to the test standard listed in Table 1.

Table 1—List of Appropriate Test Standard for Inclusion in TUVRNA's NRTL Scope of Recognition
Test standard | Test standard title
UL 698A | Standard for Industrial Control Panels Relating to Hazardous (Classified) Locations.

OSHA's recognition of any NRTL for a particular test standard is limited to equipment or materials for which OSHA standards require third-party testing and certification before using them in the workplace. Consequently, if a test standard also covers any products for which OSHA does not require such testing and certification, a NRTL's scope of recognition does not include these products.

A. Conditions

In addition to those conditions already required by 29 CFR 1910.7, TUVRNA must abide by the following conditions of the recognition:

1. TUVRNA must inform OSHA as soon as possible, in writing, of any change of ownership, facilities, or key personnel, and of any major change in its operations as a NRTL, and provide details of the change(s);

2. TUVRNA must meet all the terms of the recognition and comply with all OSHA policies pertaining to this recognition; and

3. TUVRNA must continue to meet the requirements for recognition, including all previously published conditions on TUVRNA's scope of recognition, in all areas for which it has recognition.

Pursuant to the authority in 29 CFR 1910.7, OSHA hereby expands the scope of recognition of TUVRNA, subject to the limitation and conditions specified above.

III. Authority and Signature

Loren Sweatt, Principal Deputy Assistant Secretary of Labor for Occupational Safety and Health, authorized the preparation of this notice. Accordingly, the agency is issuing this notice pursuant to 29 U.S.C. 657(g)(2), Secretary of Labor's Order No. 1-2012 (77 FR 3912, Jan. 25, 2012), and 29 CFR 1910.7.

Signed at Washington, DC, on February 19, 2020.
Loren Sweatt,
Principal Deputy Assistant Secretary of Labor for Occupational Safety and Health.

[FR Doc. 2020-03880 Filed 2-25-20; 8:45 am]

BILLING CODE 4510-26-P